SMALL BUSINESS ADMINISTRATION

[Declaration of Economic Injury Disaster #9Q59]

State of New Mexico

Colfax, Rio Arriba, Santa Fe, San Miguel and Taos Counties and the contiguous Counties of Bernalillo, Guadalupe, Harding, Los Alamos, Mora, Quay, Sandoval, San Juan, Torrance and Union in the State of New Mexico; and Archuleta, Conejos, Costilla and Las Animas Counties in the State of Colorado constitute an economic injury disaster loan area as a result of wildfires that closed the Carson National Forest and the Santa Fe National Forest from May 9 through July 12, 2002. Eligible small businesses and small agricultural cooperatives without credit available elsewhere may file applications for economic injury assistance as a result of this disaster until the close of business on April 17, 2003 at the address listed below or other locally announced locations: U.S. Small Business Administration, Disaster Area 3 Office, 4400 Amon Carter Blvd., Suite 102, Ft. Worth, TX 76155.

The interest rate for eligible small businesses and small agricultural cooperatives is 3.5 percent.

The number assigned for economic injury for this disaster is 9Q5900 for the State of New Mexico and 9Q6000 for the State of Colorado.

(Catalog of Federal Domestic Assistance Program No. 59002)

Dated: July 17, 2002.
Hector V. Barreto,
Administrator.

[FR Doc. 02-18770 Filed 7-24-02; 8:45 am]

BILLING CODE 8025-01-P